DEPARTMENT OF THE INTERIOR

Bureau of Land Management

[ES-030-01-1610-DO]

Notice of Intent To Prepare the Lower Potomac River Coordinated Management Plan/Environmental Assessment

AGENCY: Bureau of Land Management, Milwaukee Field Office, DOI.

ACTION: Notice of intent to prepare a coordinated management plan.

SUMMARY: Notice is hereby given that the Bureau of Land Management (BLM), Milwaukee Field Office, intends to prepare a coordinated management plan (CMP) for the purpose of determining whether and where to acquire land in the Lower Potomac River project area located in Charles County, Maryland. No specific tracts have been targeted for acquisition.

The planning efforts will follow the procedures set forth in title 43 of the Code of Federal Regulations, Subpart 1600. The EA will be prepared under the National Environmental Policy Act of 1969 regulations (40 CFR 1500, et seq.).

The public has 30 days from the date of publication of this notice to send its ideas regarding the proposal described below in the “Supplementary Information” and in the preliminary planning criteria sections. These comments should be written to help focus the plan on substantive issues and develop appropriate management alternatives. These comments may include specific resource data or information or locations where these data or information may be found.

DATES: The public scoping period commences with the publication of this notice. Comments must be postmarked no later than May 30, 2001 to ensure the issues they raise are considered in the plan.

ADDRESSES: Comments may be mailed to the following addresses: James W. Dryden, Field Office Manager, Milwaukee Field Office, P.O. Box 631, Milwaukee, Wisconsin 53201-0631 or Ed Ruda, Project Leader Manager, Eastern States Office, 7450 Boston Boulevard, Springfield, Virginia 22153.

FOR FURTHER INFORMATION CONTACT: Ed Ruda, Project Leader at (703) 440-1663, or by electronic mail at ed_ruda@es.blm.gov, or Howard Levine, Planning and Environmental Coordinator at (414) 297-4463, or by electronic mail at howard_levine@es.blm.gov.

SUPPLEMENTARY INFORMATION: Congress has appropriated a total of $3 million in Land and Water Conservation Funds (LWCF) for the acquisition of lands by the BLM in the “Douglas Point” region of southwestern Charles County, Maryland. The planning area has been renamed Lower Potomac River Project Area.

Prior to expending Federal money for acquisition, BLM must fulfill the requirements of Sections 202 and 205(b) of the Federal Land Policy and Management Act of 1976, as amended (43 U.S.C. 1701, et seq.) (FLPMA). Under these requirements, any land acquisitions by BLM must conform with applicable land use plans. Currently, BLM has no land use plans in the State of Maryland. The Lower Potomac River Coordinated Management Plan/Environmental Assessment will fulfill that requirement. The plan will not identify any specific tracts for acquisition by the Federal Government, but will instead develop a set of criteria to evaluate proposals for acquisition in the future.

The Lower Potomac River CMP will be developed cooperatively with Maryland Department of Natural Resources (MDNR) and Charles County. By preparing a single plan, each agency's needs will be met and potential acquisitions can be evaluated within an overall conservation strategy for the region.

The planning regulations require that BLM release for review a list of planning criteria that will guide development of the land use plan. The public is invited to review, comment and propose amendments to any of the following planning criteria:

1. The plan will be completed in compliance with FLPMA and other applicable laws.

2. The plan will include an Environmental Assessment (EA) prepared under the National Environmental Policy Act. If scoping reveals the potential for significant impact, BLM will prepare an environmental impact statement.

3. The final plan will include a set of acquisition criteria that will be used to evaluate specific proposals either by Bureau motion or raised by willing sellers. Although land acquisition can be defined as fee title acquisition criteria, conservation easement acquisition, or mineral estate acquisition (less than fee), the terms of BLM's LWCF proposal, as approved by Congress, envision full fee acquisition.

4. The economic benefits and costs of potential Federal acquisitions will be evaluated in the plan.

5. Potential Federal acquisitions will be evaluated in the context of other land acquisitions made by the State of Maryland or not-for-profit groups.

6. Any lands acquired by BLM will be managed consistent with objectives developed as a result of the plan and FLPMA.

7. Lands purchased with LWCF money will be managed consistent with the BLM policies guiding such acquisitions, which includes limiting development. The construction of capital improvements (such as visitor centers, pavilions, and electricity, water or phone lines) are not anticipated at this time.

8. Decisions in the plan will be consistent, to the maximum extent possible, with the policies, plans and programs of local Governments, State agencies and other Federal agencies, and the goals of the Chesapeake Bay Program.

In addition, the Maryland State legislature has required certain information and analyses in any plans prepared for potential State acquisitions in the region. Given the fact that this will be a CMP, it will include the following items: Purchase Plan, Management Oversight Plan, Operating Plan, Public Access Plan, Forestry Management Plan, Wildlife Management Plan, and Water Management Plan.

Complete records of all phases of the planning process will be available at the Milwaukee Field Office and are available upon request.

Dated: April 9, 2001.
Chris Hanson,
Acting Milwaukee Field Manager.

[FR Doc. 01-10611 Filed 4-27-01; 8:45 am]

BILLING CODE 4310-PN-P